DEPARTMENT OF COMMERCE

International Trade Administration

[C-489-819]

Steel Concrete Reinforcing Bar From the Republic of Turkey: Final Results and Partial Rescission of Countervailing Duty Administrative Review; 2017

AGENCY: Enforcement and Compliance, International Trade Administration, Department of Commerce.

SUMMARY: The Department of Commerce (Commerce) determines that Icdas Celik Enerji Tersane ve Ulasim Sanayi A.S. (Icdas), and Kaptan Demir Celik Endustrisi ve Ticaret A.S. and Kaptan Metal Dis Ticaret Ve Nakliyat A.S. (collectively, Kaptan), producers/exporters of steel concrete reinforcing bar (rebar) from the Republic of Turkey (Turkey), each received de minimis net countervailable subsidies during the period of review (POR) January 1, 2017 through December 31, 2017. This review also includes 15 companies not individually examined, which Commerce determines received net countervailable subsidies during the POR. Additionally, we are rescinding the review for six companies with no shipments of subject merchandise to the United States during the POR.

DATES: Applicable July 14, 2020.

FOR FURTHER INFORMATION CONTACT: Nancy Decker, AD/CVD Operations, Office VII, Enforcement and Compliance, International Trade Administration, U.S. Department of Commerce, 1401 Constitution Avenue NW, Washington, DC 20230; telephone: (202) 482-0196.

SUPPLEMENTARY INFORMATION:

Background

Commerce published the Preliminary Results of this administrative review on January 17, 2020.¹ On April 24, 2020, Commerce exercised its discretion to toll all deadlines in administrative reviews by 50 days, thereby extending the deadline for these results until July 6, 2020.² For a history of all events that occurred since the Preliminary Results, see the Issues and Decision Memorandum.³

¹ See Steel Concrete Reinforcing Bar from the Republic of Turkey: Preliminary Results of Countervailing Duty Administrative Review and Intent To Rescind the Review in Part; 2017, 85 FR 3030 (January 17, 2020) (Preliminary Results) and accompanying Preliminary Decision Memorandum.

² See Memorandum, “Tolling of Deadlines for Antidumping and Countervailing Duty Administrative Reviews in Response to Operational Adjustments Due to COVID-19,” dated April 24, 2020. The final results were initially due on May 16, 2020 (120 days after publication of the Preliminary Results). In this case, 50 days after the original May 16, 2020, deadline falls on July 5, 2020, a Sunday. Commerce's practice dictates that where a deadline falls on a weekend or federal holiday, the appropriate deadline is the next business day. See Notice of Clarification: Application of “Next Business Day” Rule for Administrative Determination Deadlines Pursuant to the Tariff Act of 1930, As Amended, 70 FR 24533 (May 10, 2005).

³ See Memorandum, “Issues and Decision Memorandum for the Final Results of the Countervailing Duty Administrative Review of Steel Concrete Reinforcing Bar from the Republic of Turkey; 2017,” dated concurrently with, and hereby adopted by, this notice (Issues and Decision Memorandum).

Scope of the Order ⁴

⁴ See Steel Concrete Reinforcing Bar from the Republic of Turkey: Countervailing Duty Order, 79 FR 65926 (November 6, 2014) (Order).

The merchandise covered by the Order is steel concrete reinforcing bar (rebar). For a complete description of the scope, see the Issues and Decision Memorandum.

Analysis of Comments Received

All issues raised in interested parties' briefs are addressed in the Issues and Decision Memorandum. The Issues and Decision Memorandum is a public document and is on file electronically via Enforcement and Compliance's Antidumping and Countervailing Duty Centralized Electronic Service System (ACCESS). ACCESS is available to registered users at http://access.trade.gov, and to all parties in the Central Records Unit, Room B8024 of the main Commerce building. In addition, a complete version of the Issues and Decision Memorandum can be accessed directly at http://enforcement.trade.gov/frn/. The signed and electronic versions of the Preliminary Decision Memorandum are identical in content. A list of the issues raised by interested parties, and to which we responded in the Issues and Decision Memorandum, is provided in the Appendix to this notice.

Methodology

Commerce conducted this administrative review in accordance with section 751(a)(1)(A) of the Tariff Act of 1930, as amended (the Act). For each of the subsidy programs found countervailable, we determine that there is a subsidy, i.e., a government-provided financial contribution that gives rise to a benefit to the recipient, and that the subsidy is specific.⁵ For a full description of the methodology underlying Commerce's conclusions, see the Issues and Decision Memorandum.

⁵ See sections 771(5)(B) and (D) of the Act regarding financial contribution; section 771(5)(E) of the Act regarding benefit; and section 771(5A) of the Act regarding specificity.

Partial Rescission of Review

Agir Haddecilik A.S. (Agir), Asil Celik Sanayi ve Ticaret A.S. (Asil), Ege Celik Endustrisi Sanayi ve Ticaret A.S. (Ege), Ekinciler Demir ve Celik Sanayi Anonim Sirketi (Ekinciler), and Kocaer Haddecilik Sanayi ve Ticar (Kocaer) each timely filed a no-shipments certification.⁶ U.S. Customs and Border Protection (CBP) did not provide to Commerce any information that contradicted these no-shipments certifications. Consequently, in the Preliminary Results, Commerce announced its intent to rescind the reviews of these companies. No interested party submitted comments on Commerce's intent to rescind the reviews of these companies. Because there is no evidence on the record to indicate that Agir, Asil, Ege, Ekinciler, or Kocaer had entries, exports, or sales of subject merchandise to the United States during the POR, pursuant to 19 CFR 351.213(d)(3), we are rescinding the review with respect to these companies.

⁶ See Agir's Letter, “Steel Concrete Reinforcing Bar from Turkey (C-489-819): Countervailing Duty Administrative Review (1/1/17-12/31/17),” dated February 22, 2019; see also Asil's Letter, “Steel Concrete Reinforcing Bar from Turkey (C-489-819): Countervailing Duty Administrative Review (1/1/17-12/31/17),” dated February 22, 2019; Ege's Letter, “Steel Concrete Reinforcing Bar from Turkey (C-489-819), Countervailing Duty Administrative Review (1/1/17-12/31/17), Certification Of No Sales,” dated March 5 2019; Ekinciler's Letter, “Steel Concrete Reinforcing Bar from Turkey (C-489-819): Countervailing Duty Administrative Review (1/1/17-12/31/17),” dated February 21, 2019; and Kocaer's Letter, ” 2017 Countervailing Duty Administrative Review Involving Steel Concrete Reinforcing Bar from the Republic of Turkey: Notice of No Sales,” dated February 21, 2019.

Entries of merchandise produced and exported by Habas Sinai ve Tibbi Gazlar Istihsal Endustrisi A.S. (Habas) are not subject to countervailing duties under this Order because Commerce's final determination of the investigation with respect to this producer/exporter combination was negative.⁷ However, any entries of merchandise produced by any other entity and exported by Habas, or produced by Habas and exported by another entity, are subject to this Order.

⁷ See Steel Concrete Reinforcing Bar from the Republic of Turkey: Final Affirmative Countervailing Duty Determination and Final Affirmative Critical Circumstances Determination, 79 FR 54963, 54964 (September 15, 2014).

No interested party submitted comments on Commerce's intent to rescind the review of Habas. Because there is no evidence on the record of entries of merchandise produced by another entity and exported by Habas, or entries of merchandise produced by Habas and exported by another entity, we determine that Habas is not subject to this administrative review. Therefore, pursuant to 19 CFR 351.213(d)(3), we are rescinding the review with respect to Habas.

Companies Not Selected for Individual Review

To determine the rate for companies not selected for individual examination, Commerce's practice is to weight-average the net countervailable subsidy rates for the selected mandatory companies, excluding rates that are zero, de minimis, or based entirely on facts available.⁸ In this review, we calculated de minimis net countervailable subsidy rates for each of the mandatory respondents (i.e., Icdas and Kaptan) during the POR. In countervailing duty proceedings, where the number of respondents individually examined has been limited, Commerce has determined that a “reasonable method” to use to determine the rate applicable to companies not individually examined when all the rates of selected mandatory respondents are zero or de minimis is to assign to the non-selected respondents the average of the most recently determined rates that are not zero, de minimis, or based entirely on facts available.⁹ However, if a non-selected respondent has its own calculated rate that is contemporaneous with or more recent than such previous rates, Commerce has found it appropriate to apply that calculated rate to that non-selected respondent, even when that rate is zero or de minimis.¹⁰

⁸ See, e.g., Certain Pasta from Italy: Final Results of the 13th (2008) Countervailing Duty Administrative Review, 75 FR 37386, 37387 (June 29, 2010).

⁹ See, e.g., Circular Welded Carbon Steel Pipes and Tubes from Turkey: Final Results of Countervailing Duty Administrative Review; Calendar Year 2012 and Rescission of Countervailing Duty Administrative Review, in Part, 79 FR 51140, 51141 (August 27, 2014); and Cut-to-Length Carbon-Quality Steel Plate from the Republic of Korea: Final Results of Countervailing Duty Administrative Review; 2012, 79 FR 46770 (August 11, 2014), and accompanying Issues and Decision Memorandum at “Non-Selected Rate.”

¹⁰ See, e.g., Circular Welded Carbon Steel Pipes and Tubes from Turkey: Final Results of Countervailing Duty Administrative Review; Calendar Year 2012 and Rescission of Countervailing Duty Administrative Review, in Part, 79 FR 51140, 51141 (August 27, 2014); and Cut-to-Length Carbon-Quality Steel Plate from the Republic of Korea: Final Results of Countervailing Duty Administrative Review; 2012, 79 FR 46770 (August 11, 2014), and accompanying Issues and Decision Memorandum at “Non-Selected Rate.”

In the most recently completed administrative review of the Order, we calculated a net countervailable subsidy rate of 1.82 percent ad valorem for Colakoglu Dis Ticaret A.S. and Colakoglu Metalurji A.S, which were not individually examined in this review.¹¹ Therefore, consistent with Commerce's practice, described above, we are assigning the rate of 1.82 percent ad valorem to Colakoglu Dis Ticaret A.S. and Colakoglu Metalurji A.S., based on the companies' rate calculated in the prior review.

¹¹ See Steel Concrete Reinforcing Bar from the Republic of Turkey: Final Results and Partial Rescission of Countervailing Duty Administrative Review; 2016, 84 FR 36051, 36052 (July 26, 2019).

With regard to the 13 remaining non-selected companies, for which no individual rates have been calculated previously, we are assigning the rate of 2.29 percent ad valorem, which is the average of the above de minimis rates calculated in the last review.¹²

¹² Id. The average of the two calculated rates that were above de minimis equals 2.29 percent.

Final Results of the Review

We find that the net countervailable subsidy rates for the period January 1, 2017 through December 31, 2017 are as follows:

Company | Subsidy rate ad valorem (percent)
Icdas Celik Enerji Tersane ve Ulasim Sanayi A.S. and its cross-owned affiliates ¹³ | * 0.41
Kaptan Demir Celik Endustrisi ve Ticaret A.S. and Kaptan Metal Dis Ticaret ve Nakliyat A.S. and their cross-owned affiliates ¹⁴ | * 0.19
Acemar International Limited | 2.29
A G Royce Metal Marketing | 2.29
As Gaz Sinai ve Tibbi Gazlar A.S | 2.29
Bastug Metalurji Sanayi AS | 2.29
Colakoglu Dis Ticaret A.S | 1.82
Colakoglu Metalurji A.S | 1.82
Demirsan Haddecilik Sanayi Ve Ticaret AS | 2.29
Diler Dis Ticaret AS | 2.29
Duferco Investment Services SA | 2.29
Duferco Celik Ticaret Limited | 2.29
Izmir Demir Celik Sanayi A.S | 2.29
Mettech Metalurji Madencilik Muhendislik Uretim Danismanlik ve Ticaret Limited Sirketi | 2.29
MMZ Onur Boru Profil A.S | 2.29
Ozkan Demir Celik Sanayi A.S | 2.29
Wilmar Europe Trading BV | 2.29
* (de minimis).

Disclosure

We will disclose to the parties in this proceeding the calculations performed for these final results within five days of the date of publication of this notice in the Federal Register.¹⁵

¹³ Commerce finds the following companies to be cross-owned with Icdas: Mardas Marmara Deniz Isletmeciligi A.S., Oraysan Insaat Sanayi ve Ticaret A.S., Artmak Denizcilik Ticaret ve Sanayi A.S., Artım Demir Inşaat Turizm Sanayi Ticaret Ltd. Sti., Anka Entansif Hayvancılık Gıda Tarım Sanayi ve Ticaret A.S., and Eras Taşımacılık Taahhut Insaat ve Ticaret A.S. See Preliminary Results and accompanying Preliminary Decision Memorandum at 10.

¹⁴ Commerce finds the following companies to be cross-owned with Kaptan: Kaptan Is Makinalari Hurda Alim Satim Ltd. Sti, and Efesan Demir San. Ve Tic. A.S. See Preliminary Results and accompanying Preliminary Decision Memorandum at 10-11.

¹⁵ See 19 CFR 351.224(b).

Assessment and Cash Deposit Requirements

In accordance with 19 CFR 351.212(b)(2), Commerce intends to issue assessment instructions to CBP 15 days after the date of publication of these final results of review to liquidate shipments of subject merchandise entered, or withdrawn from warehouse, for consumption on or after January 1, 2017 through December 31, 2017, for the above-listed companies at the ad valorem assessment rates listed, except for those companies to which a de minimis rate is assigned. Concerning those companies with a de minimis rate, Commerce intends to issue assessment instructions to CBP to liquidate shipments of subject merchandise entered, or withdrawn from warehouse, for consumption on or after January 1, 2017 through December 31, 2017, without regard to countervailing duties.

Commerce also intends to instruct CBP to collect cash deposits of estimated countervailing duties in the amounts shown for each of the respective companies listed above, except, where the rate calculated in these final results is de minimis, no cash deposit will be required on shipments of the subject merchandise entered or withdrawn from warehouse, for consumption on or after the date of publication of the final results of this review. For all non-reviewed firms, CBP will continue to collect cash deposits of estimated countervailing duties at the all-others rate or the most recent company-specific rate applicable to the company, as appropriate. These cash deposit requirements, effective upon publication of these final results, shall remain in effect until further notice.

Administrative Protective Order

This notice also serves as a reminder to parties subject to administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

Notification to Interested Parties

These final results are issued and published in accordance with sections 751(a)(1) and 777(i)(1) of the Act, and 19 CFR 351.213(d)(4) and 19 CFR 351.221(b)(5).

Dated: July 6, 2020.
Jeffrey I. Kessler,
Assistant Secretary for Enforcement and Compliance.

APPENDIX

List of Topics Discussed in the Issues and Decision Memorandum

I. Summary

II. Background

III. Scope of the Order

IV. Partial Rescission of the 2017 Administrative Review

V. Non-Selected Rate

VI. Subsidies Valuation Information

VII. Analysis of Programs

VIII. Discussion of the Issues

Comment 1: Provision of Natural Gas for Less than Adequate Remuneration (LTAR)—Non-Government Suppliers

Comment 2: New Subsidy Allegation—Super Incentive Scheme

Comment 3: Renewable Energy Sources Support Mechanism (YEKDEM) Program Calculation

Comment 4: Investment Incentive Certificates Calculation

Comment 5: Non-Selected Company Rate for Colakoglu Dis Ticaret A.S. and Colakoglu Metalurji A.S. (collectively, Colakoglu)

IX. Recommendation

[FR Doc. 2020-15062 Filed 7-13-20; 8:45 am]

BILLING CODE 3510-DS-P